FEDERAL ELECTION COMMISSION

11 CFR Part 111

[Notice 2009-19]

Procedural Rules for Audit Hearings

AGENCY: Federal Election Commission.

ACTION: Agency procedure; correction.

SUMMARY: On July 10, 2009, the Federal Election Commission published a Procedural Rule (“Commission”) instituting a program that provides committees that are audited pursuant to the Federal Election Campaign Act of 1971, as amended (“FECA”) with the opportunity to have a hearing before the Commission prior to the Commission's adoption of a Final Audit Report. Procedural Rules for Audit Hearings, 74 FR 33140 (July 10, 2009). The Commission is now adding a further statement at the end of that procedural rule to conform this statement to other agency procedural rules.

DATES: Effective August 7, 2009.

FOR FURTHER INFORMATION CONTACT: Joseph F. Stoltz, Assistant Staff Director, Audit Division, 999 E Street, NW., Washington, DC 20463, (202) 694-1650 or (800) 424-9530.

SUPPLEMENTARY INFORMATION: On July 10, 2009, the Commission published a Procedural Rule instituting a program that provides committees that are audited pursuant to the Federal Election Campaign Act of 1971, as amended (“FECA”) with the opportunity to have a hearing before the Commission prior to the Commission's adoption of a Final Audit Report. Procedural Rules for Audit Hearings, The Commission is now adding a statement to that procedural rule to conform the rule to other agency procedural rules and policy statements.

On page 33143, in the first column, at the end of paragraph E, insert the following:

The above provides general guidance concerning notice to those being audited and announces the general course of action that the Commission intends to follow. This notice sets forth the Commission's intentions concerning the exercise of its discretion in its audit program. However, the Commission retains that discretion and will exercise it as appropriate with respect to the facts and circumstances of each audit it considers. Consequently, this notice does not bind the Commission or any member of the general public.

Dated: July 29, 2009.
On behalf of the Commission.
Steven T. Walther,
Chairman, Federal Election Commission.

[FR Doc. E9-18541 Filed 8-6-09; 8:45 am]

BILLING CODE 6715-01-P